DEPARTMENT OF THE TREASURY

Internal Revenue Service

Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Drita Tonuzi—Deputy Chief Counsel (Operations)—Chair

2. Peter Blessing—Associate Chief Counsel (International)

3. Charles Pillitteri—Deputy Division Counsel (Small Business/Self Employed)

4. Holly Porter—Associate Chief Counsel (Passthrough & Special Industry)

5. Kathryn Patterson—Deputy Division Counsel (Large Business and International)

6. Gary Sharp—Deputy Associate Chief Counsel (General Legal Services)

Alternate—Joanne Minsky—Deputy Division Counsel (Wage & Investment)

This publication is required by 5 U.S.C. 4314(c)(4).

Michael J. Desmond,
Chief Counsel, Internal Revenue Service.

[FR Doc. 2020-19612 Filed 9-3-20; 8:45 am]

BILLING CODE 4830-01-P